DEPARTMENT OF TRANSPORTATION

Federal Aviation Administration

14 CFR Part 39

[Docket No. 97-CE-27-AD]

RIN 2120-AA64

Airworthiness Directives; Mitsubishi Heavy Industries, Ltd. MU-2B Series Airplanes

AGENCY: Federal Aviation Administration, DOT.

ACTION: Supplemental notice of proposed rulemaking (NPRM); Reopening of the comment period.

SUMMARY: This document proposes to revise an earlier proposed airworthiness directive (AD) that would apply to certain Mitsubishi Heavy Industries, Ltd. (Mitsubishi) MU-2B series airplanes. The earlier NPRM would have required you to repetitively inspect the cockpit windshield and cabin window surfaces for damage (damage would be defined as crazing, scratches, and cracks). If any of the windshield or window surfaces have damage that exceeds certain limits, the proposed AD would have required you to replace the windshield or window. If the damage does not exceed certain limits, then the proposed AD would have allowed you to blend out the damage following maintenance manual procedures. The earlier NPRM resulted from mandatory continuing airworthiness information (MCAI) issued by the airworthiness authority for Japan. The manufacturer has issued revision C to the current service information and issued service information applicable to additional MU-2B model airplanes. The manufacturer has also informed us that they will not provide replacement parts free of charge. Since these actions impose an additional burden over that proposed in the NPRM, we are reopening the comment period to allow the public the chance to comment on these additional actions.

DATES: The Federal Aviation Administration (FAA) must receive any comments on this proposed rule on or before May 2, 2003.

ADDRESSES: Submit comments to FAA, Central Region, Office of the Regional Counsel, Attention: Rules Docket No. 97-CE-27-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 97-CE-27-AD” in the subject line. If you send comments electronically as attached electronic files, the files must be formatted in Microsoft Word 97 for Windows or ASCII text.

You may get service information that applies to this proposed AD from:

—Mitsubishi Heavy Industries America, Inc., 15303 Dallas Parkway, suite 685, LB-77, Dallas, Texas 75248; telephone: (972) 980-5001; facsimile: (972) 980-5091; or

—Mitsubishi Heavy Industries, Ltd., Nagoya Aerospace Systems Works, 10, OYE-CHO, MINATO-KU, Nagoya, Japan, telephone: NAGOYA (611) 2141, telex: 4464561HISI.

You may also view this information at the Rules Docket at the address above.

FOR FURTHER INFORMATION CONTACT: Direct all questions to:

—For the airplanes manufactured in Japan (Type Certificate A2PC): Mr. Carl Fountain, Aerospace Engineer, Los Angeles Aircraft Certification Office, FAA, 3960 Paramount Boulevard, Lakewood, California, 90712; telephone: (562) 627-5222; facsimile: (562) 627-5210; and

—For the airplanes manufactured in the United States (Type Certificate A10SW): Mr. Andy McAnaul, Aerospace Engineer, FAA, Airplane Certification Office, 2601 Meacham Boulevard, Fort Worth, Texas 76193-0150; telephone: (817) 222-5156; facsimile: (817) 222-5960.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the proposed rule. You may view all comments we receive before and after the closing date of the proposed rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 97-CE-27-AD.” We will date stamp and mail the postcard back to you.

Discussion

What Events Have Caused This Proposed AD?

The Japanese Civil Airworthiness Bureau (JCAB), which is the airworthiness authority for Japan, notified the FAA that an unsafe condition may exist on certain Mitsubishi MU-2B series airplanes. The JCAB reports that several Mitsubishi MU-2B series airplanes have had windshield or window separation during flight. Separation is defined as shattering glass. Further analysis shows that the separation is happening as a result of repeated cabin pressurization cycles.

What Are the Consequences if the Condition Is Not Corrected?

This condition, if not corrected, could result in shattering or separation of the cockpit windshield or cabin windows during flight, which could cause loss of control of the airplane.

Has FAA Taken Any Action to This Point?

We issued a proposal to amend part 39 of the Federal Aviation Regulations (14 CFR part 39) to include an AD that would apply to certain Mitsubishi MU-2B series airplanes. This proposal was published in the Federal Register as a notice of proposed rulemaking (NPRM) on April 14, 1998 (63 FR 18151). The NPRM proposed to require you to repetitively inspect the cockpit windshield and cabin window surfaces for damage (damage would be defined as crazing, scratches, and cracks). If any of the windshield or window surfaces have damage that exceeds certain limits, the NPRM proposed to require you to replace the windshield or window. If the damage does not exceed certain limits, then the NPRM proposed to allow blending out the damage following maintenance manual procedures.

Accomplishment of these proposed actions would be in accordance with Mitsubishi MU-2 Service Bulletin (SB) No. 224, dated June 30, 1995, and MU-2 SB No. 224A, dated October 30, 1995.

Was the Public Invited To Comment?

The FAA encouraged interested persons to participate in the making of this amendment. The following presents the comments received on the proposal and FAA's response to each comment:

Comment Issue No. 1: Add Additional Models to the Applicability of the Proposed AD To Cover the Total MU-2B Fleet

What Is the Commenter's Concern?

The manufacturer states that an identical service bulletin exists which addresses the same condition on airplanes listed on Type Certificate Data Sheet (TCDS) No. A10SW. The manufacturer suggests that those airplane models and the applicable service bulletin be included in the proposed AD.

What Is FAA's Response to the Concern?

We agree with the manufacturer's suggestion and are incorporating the changes in this proposed AD. Because of the additional airplanes being added to the applicability of this proposed AD and the additional burden on the public, we will reopen the comment period for this proposed AD.

Comment Issue No. 2: Exclude Heated Windshields From the Applicability of the Proposed AD

What Is the Commenter's Concern?

The manufacturer states that heated windshields should be excluded from the applicability of this proposed AD, as specified in MU-2 Service Bulletin No. 224A, dated October 30, 1995.

What Is FAA's Response to the Concern?

We agree with the manufacturer's comment and are changing this proposed AD to reflect this change.

Comment Issue No. 3: Correct Part Number Referenced in the Proposed AD

What Is the Commenter's Concern?

The manufacturer states that reference to the cockpit side window, part number 010A-81874-1/-2, is incorrect on MU-2B Service Bulletin No. 224A, dated October 30, 1995. Revision C of MU-2B Service Bulletin will correct this number.

What Is FAA's Response to the Concern?

We agree with the manufacturer's comment and are incorporating the correct part number reference in this proposed AD.

Comment Issue No. 4: Change the Cost Information to Reflect that Mitsubishi Will Not Provide Replacement Parts At No Cost

What is the Commenter's Concern?

The manufacturer states that the cost impact statement in the proposed AD indicates that replacement parts will be provided at no cost. The manufacturer stated that parts will not be provided at no cost and has provided a current price list for replacement parts; therefore, changing the cost impact on the public.

What Is FAA's Response to the Concern?

We agree that the cost impact statement should be changed to reflect the cost for replacement parts. Because this shifts the cost burden from the manufacturer to the owner/operator, we will reopen the comment period for this proposed AD.

The FAA's Determination

What Has FAA Decided?

After examining the circumstances and reviewing all available information related to the incidents described above, we have determined that:

—The unsafe condition also exists or could develop on other Mitsubishi MU-2B series airplanes;

—The NPRM should be expanded to include these actions; and

—AD action should be taken in order to correct this unsafe condition.

The Supplemental NPRM

How Will the Changes to the NPRM Impact the Public?

Adding additional airplanes to the applicability section and changing the cost impact to the owner/operator goes beyond the scope of what was already proposed. Therefore, we are issuing a supplemental NPRM and reopening the comment period to allow the public additional time to comment on this proposed AD.

What Are the Provisions of the Supplemental NPRM?

This proposed AD would require you to:

—Repetitively inspect the cockpit windshield and cabin window surfaces for damage (damage would be defined as crazing, scratches, and cracks);

—Blend out the damage if the damage does not exceed certain limits; and

—Replace the windshield or window if damage exceeds certain limits.

What Document Should I Use To Accomplish These Actions?

Accomplishment of the proposed actions would be in accordance with the following, as applicable:

—Mitsubishi MU-2 Service Bulletin No. 224, which incorporates the following pages:

Affected pages | Revision level | Date
3, 5, and 6 | Original Issue | June 30, 1995.
2, 4 | B | Nov. 11, 1996.
1 | C | April 20, 1998.

—Mitsubishi MU-2 Service Bulletin No. 087/56-001B, which incorporates the following pages:

Affected pages | Revision level | Date
3, 5, and 6 | Original Issue | June 29, 1995.
2 | A | Sept. 26, 1996.
1, 4 | B | May 4, 1998.

Cost Impact

How Many Airplanes Would This Proposed AD Impact?

We estimate that this proposed AD affects 315 airplanes in the U.S. registry.

What Would Be the Cost Impact of This Proposed AD on Owners/Operators of the Affected Airplanes?

We estimate the following costs to accomplish the proposed inspection:

Labor cost | Parts cost | Total cost per airplane | Total cost on U.S. operators
8 workhours × $60 = $480 | No parts required | $480 | $480 × 315 = $151,200.

We estimate the following costs to accomplish any necessary replacements that would be required based on the results of the proposed inspection. We have no way of determining the number of airplanes that may need such replacement:

Labor cost | Parts cost | Total cost per airplane
16 workhours X $60 = $960 | P/N 010A-31450-1/-2 = $5988. P/N 010A-31451-1/-2 = $4368. P/N 010A-31874-1/-2 = $2432. P/N 010A-31870 = $1673. P/N 010A-31870-11 = $1648. P/N 030A-32402 = $1823. | $960 (workhours) + applicable part(s) = total cost per airplane.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action: (1) Is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Mitsubishi Heavy Industries, Ltd: Docket No. 97-CE-27-AD.

(a) What airplanes are affected by this AD? This AD affects the following airplane models and serial numbers that are equipped with the following part-numbered windshields and cabin windows and that are certificated in any category:

(1) Windshields

Part No. | Type of windshield
010A-31450-1/-2 | Windshield (LH/RH).
010A-31451-1/-2 | Cockpit side window (LH/RH).
010A-31874-1/-2 | Cockpit side window (LH/RH).
010A-31870 | Cabin window.
010A-31870-11 | Cabin window (at door).
030A-32402 | Long body—small cabin window.

Note 1: The heated windshield is excluded from the inspection and replacement requirements of this AD.

(2) Affected airplanes

(i) The following models and serial numbers as listed on Mitsubishi MU-2 Service Bulletin No. 224C:

Models | Serial Nos.
MU-2B/-10/-15/-20/-25/-26 | 008 through 347 (except 313 and 321).
MU-2B-30/-35/-36 | 501 through 696 (except 652 and 661).

(ii) The following models and serial numbers as listed on Mitsubishi MU-2 Service Bulletin No. 087/56-001B:

Models | Serial Nos.
MU-2B-25/-26/-26A/-40 | 313SA, 321SA, and 348SA through 459SA.
MU-2B-35/-36A/-60 | 652SA, 661SA, and 697SA through 1569SA.

(b) Who must comply with this AD? Anyone who wishes to operate any of the above airplanes must comply with this AD.

(c) What problem does this AD address? The actions specified by this AD are intended to prevent cockpit windshield or cabin window separation during flight, which could result in engine ingestion of glass, wing skin damage, or propeller damage, and possible loss of control of the airplane.

(d) What actions must I accomplish to address this problem? To address this problem, you must accomplish the following:

Actions | Compliance | Procedures
(1) Inspect the cockpit windshields and cabin windows for scratching, crazing, and cracking (referred to as damage) | Within the next 100 hours time-in-service (TIS) after the effective date of this AD and thereafter at intervals not to exceed 100 hours TIS from the last inspection, repair or replacement | In accordance with Mitsubishi MU-2 Service Bulletin No. 224 (as specified in paragraph (e) of this AD) and Mitsubishi MU-2 Service Bulletin 087/56-001 (as specified in paragraph (e) of this AD).
(2) Replace any window or windshield if damaged beyond the limits specified in Mitsubishi MU-2 Service Bulletin No. 224 (as specified in paragraph (e) of this AD) and Mitsubishi MU-2 Service Bulletin 087/56-001 (as specified in paragraph (e) of this AD) | Prior to further flight after the inspection in which the damage was found | In accordance with Mitsubishi MU-2 Service Bulletin No. 224 (as specified in paragraph (e) of this AD) and Mitsubishi MU-2 Service Bulletin 087/56-001 (as specified in paragraph (e) of this AD).
(3) Repair any damaged windshield or window that is within the limits specified in Mitsubishi MU-2 Service Bulletin No. 224 (as specified in paragraph (e) of this AD) and Mitsubishi MU-2 Service Bulletin 087/56-001 (as specified in paragraph (e) of this AD) | Prior to further flight after the inspection in which the damage was found | In accordance with the applicable Mitsubishi Maintenance Manual.

(e) Can I utilize different revisions to the affected service bulletins? The service bulletins required to accomplish these actions incorporate the following pages:

(1) Mitsubishi MU-2 Service Bulletin No. 224:

Affected pages | Revision level | Date
3, 5, and 6 | Original Issue | June 30, 1995.
2, 4 | B | Nov. 11, 1996.
1 | C | April 20, 1998.

(2) Mitsubishi MU-2 Service Bulletin No. 087/56-001B:

Affected pages | Revision level | Date
3, 5, and 6 | Original Issue | June 29, 1995.
2 | A | Sept. 26, 1996.
1, 4 | B | May 4, 1998.

(f) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office, Small Airplane Directorate.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Direct all questions to:

(1) For the airplanes manufactured in Japan ( Type Certificate A2PC): Mr. Carl Fountain, Aerospace Engineer, Los Angeles Aircraft Certification Office, FAA, 3960 Paramount Boulevard., Lakewood, California, 90712; telephone: (562) 627-5222; facsimile: (562) 627-5210; and

(2) For the airplanes manufactured in the United States (Type Certificate A10SW): Mr. Andy McAnaul, Aerospace Engineer, FAA, Airplane Certification Office, 2601 Meacham Boulevard, Fort Worth, Texas 76193-0150; telephone: (817) 222-5156; facsimile: (817) 222-5960.

(h) What if I need to fly the airplane to another location to comply with this AD? The FAA can issue a special flight permit under sections 21.197 and 21.199 of the Federal Aviation Regulations (14 CFR 21.197 and 21.199) to operate your airplane to a location where you can accomplish the requirements of this AD.

(i) How do I get copies of the documents referenced in this AD? You may get copies of the documents referenced in this AD from Mitsubishi Heavy Industries America, Inc., 15303 Dallas Parkway, suite 685, LB-77, Dallas, Texas 75248; telephone: (972) 980-5001; facsimile: (972) 980-5091; or Mitsubishi Heavy Industries, Ltd., Nagoya Aerospace Systems Works, 10, OYE-CHO, MINATO-KU, Nagoya, Japan, telephone: NAGOYA (611) 2141, telex: 4464561HISI. You may view these documents at FAA, Central Region, Office of the Regional Counsel, 901 Locust, Room 506, Kansas City, Missouri 64106.

Note 3: The subject of this AD is addressed in Japanese AD No. TCD-4311-95, dated November 15, 1995.

Issued in Kansas City, Missouri, on March 19, 2003.
Sandra J. Campbell,
Acting Manager, Small Airplane Directorate, Aircraft Certification Service.

[FR Doc. 03-7187 Filed 3-25-03; 8:45 am]

BILLING CODE 4910-13-P